DEPARTMENT OF ENERGY

Federal Energy Regulatory Commission

Northern Indiana Public Service Company, Indiana Norway-Oakdale Project; Notice of Revised Restricted Service List for the Programmatic Agreements for Managing Properties Included in or Eligible for Inclusion in the National Register of Historic Places

November 16, 2006.

On October 12, 2006, the Federal Energy Regulatory Commission (Commission) issued notice of a proposed restricted service list for the preparation of a programmatic agreement for managing properties included in, or eligible for inclusion in, the National Register of Historic Places at the Norway-Oakdale Hydroelectric Project No. 12514. Rule 2010(d)(1) of the Commission's Rules of Practice and Procedure, 18 CFR. 2010(d)(1) (2005), provides for the establishment of such a list for a particular phase or issue in a proceeding to eliminate unnecessary expense or improve administrative efficiency. Under Rule 2010(d)(4), persons on the official service list are to be given notice of any proposal to establish a restricted service list and an opportunity to show why they should also be included on the restricted service list.

On October 23, 2006, the Northern Indiana Public Service Company (NIPSCO) filed a request to include Barbara K. Heffernan and Sarah S. Dietrich, both counsel for NIPSCO, on the proposed restricted service list.

Under Rule 2010(d)(2), any restricted service list will contain the names of each person on the official service list, or the person's representative, who, in the judgment of the decisional authority establishing the list, is an active participant with respect to the phase or issue in the proceeding for which the list is established. As the licensee for the project, NIPSCO has an identifiable interest in issues relating to the management of historic properties at the Norway-Oakdale Project. Therefore, NIPSCO's representatives will be added to the restrictive service list.

Accordingly, the restricted service list issued on October 12, 2006, for the Norway-Oakdale Project No. 12514, is revised to add the following persons:

Barbara K. Heffernan, Schiff Hardin LLP, 1101 Connecticut Ave., NW., Suite 600, Washington, DC 20036.

Sarah S. Dietrich, Senior Attorney, NiSource, Inc., 2603 Augusta Drive, Suite 300, Houston, TX 77057.

Magalie R. Salas,
Secretary.

[FR Doc. E6-19920 Filed 11-24-06; 8:45 am]

BILLING CODE 6717-01-P